DEPARTMENT OF COMMERCE

National Ocean Service

[I.D. 061200LE]

Submission for OMB Review; Comment Request

The Department of Commerce has submitted to the Office of Management and Budget (OMB) for clearance the following proposal for collection of information under the provisions of the Paperwork Reduction Act (44 U.S.C. Chapter 35).

Agency: National Oceanic and Atmospheric Administration (NOAA).

Title: Tortugas Access Permits.

Form Number(s): None.

OMB Approval Number: None.

Type of Request: Regular submission.

Burden Hours: 24.

Number of Respondents: 101.

Average Hours Per Response: 10 minutes for a permit application, 2 minutes for radio notifications when entering or leaving the reserve, 30 minutes for requests to certify existing leases or licences, and 1 hour for appeals of permit actions.

Needs and Uses: NOAA is proposing regulations to implement a Tortugas Ecological Reserve and to regulate activities within that Reserve. The proposed rule will prohibit fishing, taking of organisms, anchoring, or discharging pollutants by vessels, and would control access to the Reserve through an access permit. The permits will help to enforce access and no-take restrictions. Persons with permits would have to provide notification via telephone or radio prior to entering the reserve and when leaving.

Affected Public: Business or other for-profit organizations, individuals, and not-for-profit institutions.

Frequency: On occasion.

Respondent's Obligation: Mandatory.

OMB Desk Officer: David Rostker, (202) 395-3897.

Copies of the above information collection proposal can be obtained by calling or writing Linda Engelmeier, DOC Forms Clearance Officer, (202) 482-3272, Department of Commerce, Room 6066, 14th and Constitution Avenue, NW, Washington, DC 20230 (or via the Internet at lengelme@doc.gov).

Written comments and recommendations for the proposed information collection should be sent within 30 days of publication of this notice to David Rostker, OMB Desk Officer, Room 10202, New Executive Office Building, Washington, DC 20503.

Dated: June 8, 2000.
Madeleine Clayton,
Management Analyst, Office of the Chief Information Officer.

[FR Doc. 00-15304 Filed 6-15-00; 8:45 am]

BILLING CODE 3510-08-F